OFFICE OF SCIENCE AND TECHNOLOGY POLICY

NNI Strategic Plan 2010; Request for Information

ACTION: Notice.

SUMMARY: The purpose of this RFI is to enhance the value of the National Nanotechnology Initiative (NNI) by reaching out to the nanotechnology stakeholder community for specific input for the next NNI Strategic Plan to be published in December 2010. This RFI refers to the NNI Goals identified from the 2007 Strategic Plan (http://www.nano.gov/NNI_Strategic_Plan_2007.pdf) as a starting point for questions covering themes such as research priorities, investment, coordination, partnerships, evaluation, and policy.

RFI Response Instructions: The White House Office of Science and Technology Policy is interested in responses that address one or more of the following Questions below that are broadly categorized under Goals and Objectives; Research Priorities; Investment; Coordination and Partnerships; Evaluation; and Policy as related to the NNI. When submitting your response, please indicate: (1) The question(s) you are answering, and (2) which of the four NNI goals to which it applies. Please be specific and concise.

Responses to this RFI should be submitted by 11:59 p.m. Eastern Time on August 15, 2010. (Submissions prior to the July 13-14, 2010 “NNI Strategic Plan Stakeholder Workshop” (http://www.nano.gov/html/meetings/NNISPWorkshop/index.html) may also inform dialogues at this event.) Responses to this RFI must be delivered electronically in the body of or as an attachment to an e-mail sent to NNIStrategy@ostp.gov. Additionally, OSTP intends to stage an online public comment event July 13-August 15, 2010 to solicit input on the NNI Strategic Plan. For details on this online event, see http://www.whitehouse.gov/ostp/NNIStrategy/.

Responses to this notice are not offers and cannot be accepted by the Government to form a binding contract or issue a grant. Information obtained as a result of this RFI may be used by the government for program planning on a non-attribution basis. Do not include any information that might be considered proprietary or confidential.

Background Information

What is the NNI? The National Nanotechnology Initiative (NNI) is a U.S. Government research and development (R&D) program of 25 agencies working together toward the common challenging vision of a future in which the ability to understand and control matter at the nanoscale leads to a revolution in technology and industry that benefits society. The combined, coordinated efforts of these agencies have accelerated discovery, development, and deployment of nanotechnology towards agency missions and the broader national interest. Established in 2001, the NNI involves nanotechnology-related activities by the 25 member agencies, 15 of which have budgets for nanotechnology R&D for 2011.

The NNI is managed within the framework of the National Science and Technology Council (NSTC), the Cabinet-level council by which the President coordinates science and technology across the Federal Government and interfaces with other sectors. The Nanoscale Science, Engineering, and Technology (NSET) Subcommittee of the NSTC coordinates planning, budgeting, program implementation, and review of the NNI. The NSET Subcommittee is composed of senior representatives from agencies participating in the NNI (http://www.nano.gov).

NNI Goals: The December 2007 NNI Strategic Plan (http://www.nano.gov/NNI_Strategic_Plan_2007.pdf) specifies four overarching, crosscutting goals towards achieving the overall vision of the NNI:

Goal 1: Advance a world-class nanotechnology research and development program. The NNI ensures United States leadership in nanotechnology research and development by stimulating discovery and innovation. This program expands the boundaries of knowledge and develops technologies through a comprehensive program of research and development. The NNI agencies invest at the frontiers and intersections of many disciplines, including biology, chemistry, engineering, materials science, and physics. The interest in nanotechnology arises from its potential to significantly impact numerous fields, including aerospace, agriculture, energy, the environment, healthcare, information technology, homeland security, national defense, and transportation systems.

Goal 2: Foster the transfer of new technologies into products for commercial and public benefit. Nanotechnology contributes to United States competitiveness by improving existing products and processes and by creating new ones. The NNI implements strategies that maximize the economic benefits of its investments in nanotechnology, based on understanding the fundamental science and responsibly translating this knowledge into practical applications.

Goal 3: Develop and sustain educational resources, a skilled workforce, and the supporting infrastructure and tools to advance nanotechnology. A skilled science and engineering workforce, leading-edge instrumentation, and state-of-the-art facilities are essential to advancing nanotechnology research and development. Educational programs and resources are required to produce the next generation of nanotechnologists, that is, the researchers, inventors, engineers, and technicians who drive discovery, innovation, industry, and manufacturing.

Goal 4: Support responsible development of nanotechnology. The NNI aims to maximize the benefits of nanotechnology and at the same time to develop an understanding of potential risks and to develop the means to manage them. Specifically, the NNI pursues a program of research, education, and communication focused on environmental, health, safety, and broader societal dimensions of nanotechnology development.

Program Component Areas (PCAs): The December 2007 NNI Strategic Plan (http://www.nano.gov/NNI_Strategic_Plan_2007.pdf) lays out eight categories of NNI investment known as program component areas (PCAs) to facilitate coordination, planning, and assessment of efforts towards achieving the NNI goals. The PCAs are: 1. Fundamental nanoscale phenomena and processes; 2. Nanomaterials; 3. Nanoscale devices and systems; 4. Instrumentation research, metrology, and standards for nanotechnology; 5. Nanomanufacturing; 6. Major research facilities and instrumentation acquisition; 7. Environment, health, and safety; and 8. Education and societal dimensions.

NNI Budget: Federal agencies annually report individual investments in nanotechnology R&D within PCAs in support of national goals and agency missions. Each agency separately determines its budgets for nanotechnology R&D, in coordination with the Office of Management and Budget, the Office of Science and Technology Policy, and Congress. Thus, the NNI is an interagency budget crosscut in which participating agencies work closely with each other to create an integrated program through communication, coordination, and collaboration. The proposed NNI budget for Fiscal Year 2011 is $1.76 billion, bringing the cumulative investment since the inception of the NNI in 2001 to nearly $14 billion (http://www.nano.gov/NNI_2011_budget_supplement.pdf).

NNI Coordination: Enhanced communication through committees and working groups has led to joint coordination and collaboration in a variety of forms. The NSET Subcommittee has established four working groups: (1) The Global Issues in Nanotechnology (GIN) Working Group, (2) the Nanotechnology Environmental and Health Implications (NEHI) Working Group, (3) the Nanomanufacturing, Industry Liaison, and Innovation (NILI) Working Group, and (4) the Nanotechnology Public Engagement and Communication (NPEC) Working Group. (See http://www.nano.gov/html/about/nsetworkinggroups.html.) Products from these working groups and other interagency collaborations include sharing of knowledge and expertise; joint sponsorship of solicitations and workshops; and leveraging funding, staff, and facility/equipment resources at NNI participating agencies. The National Nanotechnology Coordination Office (NNCO; http://www.nano.gov/html/about/nnco.html) acts as the primary point of contact for information on the NNI, provides public outreach on behalf of the NNI, and provides technical and administrative support to the NSET Subcommittee as well as the NSET working groups listed above.

Questions

A. Goals and Objectives

• A1. What specific and measurable objectives should be established to help achieve the four stated NNI goals?

• A2. Are there other overarching goals that would enable the NNI to better support the vision of a future in which the ability to understand and control matter at the nanoscale leads to a revolution in technology and industry that benefits society?

Example: In achieving Goal 2, “to foster the transfer of new technologies into products for commercial and societal benefit,” one objective could be for the NNI member agencies to increase their emphasis on commercialization of nanotechnology-based products by launching new government-industry-university partnerships using successful models such as the Nanoelectronics Research Initiative (NRI; http://nri.src.org/member/about/default.asp; cf. recommendations in the President's Council of Advisors on Science & Technology's “Report to the President and Congress on the Third Assessment of the National Nanotechnology Initiative” (http://www.whitehouse.gov/sites/default/files/microsites/ostp/pcast-nano-report.pdf).

B. Research Priorities

• B1. What are the most important gaps in the NNI R&D portfolio (i.e., specific underfunded areas ripe for success) that should be addressed to achieve the NNI goal(s) (please specify 1, 2, 3, and/or 4)?

• B2. What nanotechnology R&D areas should NNI member agencies pursue under the Nanotechnology Signature Initiatives model of close and targeted program-level interagency collaboration to help accelerate nanotechnology innovation?

Background: To accelerate nanotechnology development in support of the President's priorities and innovation strategy, NNI member agencies have identified areas ripe for significant advances through closer program-level interagency collaboration oriented around specific targets that are not likely to be achieved apart from more intensive interagency and cross-sector collaboration. The three resulting Nanotechnology Signature Initiatives for FY 2011 are: 1. Nanotechnology applications for solar energy; 2. Sustainable Nanomanufacturing; and 3. Nanoelectronics for 2020 and Beyond (details are available at http://www.nano.gov/html/research/signature_initiatives.html). These Nanotechnology Signature Initiatives represent the leading edge of functional interagency collaboration in the budget and program planning process under the NNI, with multiple agencies working in common toward specific objectives.

• B3. What are the most important scientific and technical challenges that would need to be met to realize the NNI goal(s) (1, 2, 3, and/or 4) and objectives?

C. Investment

• C1. What types of research and development investments (e.g. support for individual investigators, small teams, centers, research infrastructure, etc.) should the NNI agencies create, sustain, and/or expand to achieve the NNI goal(s) (please specify 1, 2, 3, and/or 4)?

Example, Department of Energy: the Department of Energy (DOE) investment in 2011 continues to support full operation of the five DOE Nanoscale Science Research Center (NSRC) user facilities (corresponding to PCA 6, major research facilities and instrumentation acquisition) and an extensive array of individual university grants and laboratory research programs. The Energy Frontier Research Centers, larger collaborative efforts in which a portion of the activity relates to nanoscale science, are also continued. In 2010 DOE initiates an Energy Innovation Hub on Fuels from Sunlight, and this support will continue in 2011, with a portion of the activity related to nanoscience. Much of the increase in DOE funding results from new funding from the Advanced Research Projects Agency—Energy (ARPA-E), the initiation of additional Energy Frontier Research Centers, and the formation of a second Energy Innovation Hub focusing on batteries and energy storage. A significant fraction of these activities will be fundamentally based on nanoscience.

Example, National Science Foundation and Environmental Protection Agency: In 2011, the NSF and the EPA continue to fund (over five years, starting in September 2008) two Centers for the Environmental Implications of Nanotechnology (CEIN). Led by the University of California Los Angeles and Duke University, the CEINs will study how nanomaterials interact with the environment and human health, resulting in better risk assessment and risk mitigation strategies. Each center works as a network, connected to multiple research organizations, industry, and government agencies, and emphasizes interdisciplinary research and education.

• C2. What relative distribution of research and development investment among the PCAs is needed to achieve the NNI goal(s) (1, 2, 3, and/or 4), and why?

Background: While the NNI remains focused on fulfilling the Federal role of supporting basic research, infrastructure development, and technology transfer, the proposed investments for 2011 place renewed emphasis on accelerating the transition from basic R&D advances and capabilities into innovations that support national priorities such as sustainable energy technologies, healthcare, and environmental protection. While the dominant focus of NNI funding represented in PCAs 1, 2, and 3 have been relatively sustained, the fastest-growing PCAs in recent years have been those for EHS (PCA 7, the requested EHS investment for 2011 is $117 million—over triple the figure for 2005) and nanomanufacturing (PCA 5, increasing from $34 million in 2006 to $101 million in the 2011 request), with a resultant small percentage reduction (about one percent change from 2010) in the highest-funded PCA, fundamental nanoscale phenomena and processes (PCA 1, $484.4 million in the 2011 request). See the NNI Supplement to the President's FY 2011 Budget at http://www.nano.gov/NNI_2011_budget_supplement.pdf, pages 7-11 and the data.gov site (http://www.data.gov/raw/1556/#) for more details on relative funding over time.

• C3. What is the appropriate balance for investment in nanotechnology among US private and public entities (i.e., government, corporate R&D, and venture capital) to achieve the NNI goal(s) (please specify 1, 2, 3, and/or 4), and why?

Background: The President's Council of Advisors on Science & Technology's “Report to the President and Congress on the Third Assessment of the National Nanotechnology Initiative” (http://www.whitehouse.gov/sites/default/files/microsites/ostp/pcast-nano-report.pdf) reports that the United States invested $5.7 billion in nanotechnology Research & Development in 2008, which corresponds approximately to one-third from Federal and State governments, half from corporate investments, and about one-fifth from venture capital investments.

D. Coordination and Partnerships

• D1. How could the NNI strengthen interagency coordination and collaboration towards specific NNI goal(s) (please specify 1, 2, 3, and/or 4) and objectives?

• D2. What improved mechanisms may be utilized to facilitate innovative cross-disciplinary research supporting the NNI goal(s) (please specify 1, 2, 3, and/or 4)?

• D3. What are the most effective roles of the government, industry, academia, and other stakeholders in achieving this NNI goal (1, 2, 3, and/or 4)?

• D4. What new forms of collaboration between stakeholders should be explored to facilitate nanotechnology-based innovation into applications?

Government-Government Example: to help accomplish Goal 4, to “support responsible development of nanotechnology,” the National Institutes of Health's (NIH) National Institute of Environmental Health Sciences (NIEHS) is supporting research to determine precisely the physical and chemical properties of nanomaterials with biological response, thus supplying critical data for hazard and risk assessment. To support the goals of this program, NIEHS is establishing collaborations with the NIH/National Cancer Institute's Nanotechnology Characterization Laboratory for physical characterization of nanomaterials and with the Cancer Biomedical Informatics Grid (CaBIG®) NanoLab for data storage.

• D5. What existing activities in the public and private sector could the NNI develop or model to achieve the NNI goal(s) (please specify 1, 2, 3, and/or 4)?

Example: The NRI (described above in section A) is a leading example of industry-university cooperative research involving more than 30 top universities in the United States with research projects organized around four multi-university centers incorporating state and regional funding as well.

• D6. What partners or types of partners would need to collaborate (i.e., government, specific foundations and industry groups, new ideas for consortia) to accomplish the NNI goal(s) (please specify 1, 2, 3, and/or 4)?

• D7. What are effective mechanisms to leverage and/or coordinate US-funded research and development with international efforts?

• D8. What mechanisms could NNI use to regularly engage experts in academia and industry and other organizations for input on its approach to addressing specific NNI goals (please specify 1, 2, 3, and/or 4)?

• D9. What is the role of public engagement in achieving specific NNI goals? In what ways can the Federal government best engage with citizens to ensure the sustainable development of nanotechnology-based products with the broadest economic and societal benefits?

Evaluation

• E1. What specific criteria (e.g., nanotechnology publications and citations, nanotechnology patent activity, nanotechnology-related job creation, relative international nanotechnology investments) should the NNI use to evaluate its progress towards the NNI goal(s) (please specify 1, 2, 3, and/or 4) and in what priority order?

• E2. Which organizations (e.g., government committees, independent organizations, international bodies) should perform the evaluation of progress towards the NNI goal(s) (please specify 1, 2, 3, and/or 4)?

• E3. How can NNI best balance fundamental and applied research and development towards the NNI goal(s) (please specify 1, 2, 3, and/or 4)?

Policy

• F1. What new, or existing, specific policies should the NNI agencies develop or adjust to support the NNI goal(s) (please specify 1, 2, 3, and/or 4) and to realize the broader economic and societal benefits associated with advances in nanotechnology?

Examples: Policies that impact and/or support the NNI goals might address procurement, incentive prizes, technical documentary standards, international collaboration, targeted investment, permanent resident cards for foreign graduates from accredited US academic institutions, etc.

• F2. What best practices can be drawn from nanotechnology- and innovation-related policies in other sectors and countries?

FOR FURTHER INFORMATION CONTACT: Any questions about the content of this RFI should be sent to NNIStrategy@ostp.gov. Additional information regarding this RFI is at http://www.whitehouse.gov/ostp/NNIStrategy/. Questions and responses may also be sent by mail (please allow additional time for processing) to the address: Office of Science and Technology Policy, ATTN: Nano RFI, Executive Office of the President, 725 17th Street, Room 5228, Washington, DC 20502. Phone: (202) 456-7116, Fax: (202) 456-6021.

Dated: June 29, 2010.
Ted Wackler,
Deputy Chief of Staff.

[FR Doc. 2010-16273 Filed 7-2-10; 8:45 am]

BILLING CODE 3170-W0-P